DEPARTMENT OF ENERGY

Federal Energy Regulatory Commission

[Project No. 12622-001]

Black River Felts Mills LLC; Notice of Intent To File License Application, Filing of Pre-Application Document, and Approving Use of the Traditional Licensing Process

May 14, 2008.

a. Type of Filing: Notice of Intent to File License Application and Request to Use the Traditional Licensing Process.

b. Project No.: 12622-001.

c. Date Filed: April 2, 2008.

d. Submitted By: Black River Felts Mills LLC.

e. Name of Project: Felts Mills Hydroelectric Project.

f. Location: On the Black River, in Jefferson County, New York. No federal lands would be occupied by the project works.

g. Filed Pursuant to: 18 CFR 5.3 of the Commission's regulations.

h. Potential Applicant Contact: Keith Silliman, Black River Felts Mills, LLC, c/o Brookfield Power U.S. Holdings America Co., 225 Greenway Parkway, Suite 201, Liverpool, NY 13088; (315) 413-2715; e-mail—keith.silliman@brookfieldpower.com.

i. FERC Contact: John Costello at (202) 502-6119; or e-mail at john.costello@ferc.gov.

j. Black River Felts Mills LLC filed its request to use the Traditional Licensing Process on April 2, 2008. Black River Felts Mills LLC provided public notice of its request on April 8, 2008. In a letter dated May 13, 2008, the Director of the Office of Energy Projects approved Black River Felts Mills LLC request to use the Traditional Licensing Process.

k. With this notice, we are initiating informal consultation with: (a) The U.S. Fish and Wildlife Service under section 7 of the Endangered Species Act and the joint agency regulations thereunder at 50 CFR, part 402; (b) NOAA Fisheries under section 305(b) of the Magnuson-Stevens Fishery Conservation and Management Act and implementing regulations at 50 CFR 600.920; and (c) the New York State Historic Preservation Officer, as required by Section 106, National Historical Preservation Act, and the implementing regulations of the Advisory Council on Historic Preservation at 36 CFR 800.2.

l. With this notice, we are designating Black River Felts Mills LLC as the Commission's non-federal representative for carrying out informal consultation, pursuant to section 7 of the Endangered Species Act, section 305 of the Magnuson-Stevens Fishery Conservation and Management Act, and section 106 of the National Historic Preservation Act.

m. Black River Felts Mills LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll-free at 1-866-208-3676, or for TTY, (202) 502-8659. A copy is also available for inspection and reproduction at the address in paragraph h.

o. Register online at http://ferc.gov/esubscribenow.htm to be notified via e-mail of new filing and issuances related to this or other pending projects. For assistance, contact FERC Online Support.

Kimberly D. Bose,
Secretary.

[FR Doc. E8-11333 Filed 5-20-08; 8:45 am]

BILLING CODE 6717-01-P